DEPARTMENT OF ENERGY

Federal Energy Regulatory Commission

[Docket No. EL06-63-000]

Ash Grove Cement Company, Complainant v. Enron Power Marketing, Inc., Respondent; Notice of Complaint

April 3, 2006.

Take notice that on March 21, 2006, pursuant to Rules 206 and 207 of the Commission's Rules of Practice and Procedures, 18 CFR 395.206, 395.207, Ash Grove Cement Company (Ash Grove) filed a “Petition for Relief and a Request for Fast Track Processing,” relating to a termination payment sought by Enron Power Marketing, Inc. (Enron). Ash Grove requests a determination by the Commission that the termination payment sought by Enron from Ash Grove is not permitted under Enron's rate schedule or its contract with Ash Grove entered into under such rate schedule, or is otherwise unlawful on the grounds that the contract is unjust and unreasonable or contrary to the public interest.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on April 20, 2006.

Magalie R. Salas,
Secretary.

[FR Doc. E6-5287 Filed 4-10-06; 8:45 am]

BILLING CODE 6717-01-P